DEPARTMENT OF THE INTERIOR

Bureau of Land Management

[BLM_NM_FRN_MO4500175396]

Public Land Order No. 7933; Correction and Extension of Public Land Order No. 7587 for Langmuir Principal Research Site; New Mexico

AGENCY: Bureau of Land Management, Interior.

ACTION: Public Land Order.

SUMMARY: This order extends the duration of the withdrawal created by Public Land Order (PLO) No. 7587, which withdrew 852 acres of National Forest System lands from location and entry under the United States mining laws, subject to valid existing rights, for an additional 20-year period. The purpose of this withdrawal is to protect the United States Forest Service-managed Langmuir Principal Research Site to study thundercloud mechanisms, lightning, and precipitation, for an additional 20 years. This order also corrects the legal description of, but does not change, the lands withdrawn.

DATES: This PLO takes effect on October 25, 2023.

FOR FURTHER INFORMATION CONTACT: Carol Harris, Bureau of Land Management Socorro Field Office, Realty Specialist by phone at (575) 838-1298 or by email at caharris@blm.gov or Richard Wilhelm by phone at (505) 346-3842 or by email at richard.wilhelm@usda.gov. Individuals in the United States who are deaf, deafblind, hard of hearing or have a speech disability may dial 711 (TTY, TDD, or Tele Braille) to access telecommunications relay services. Individuals outside the United States should use the relay services offered within their country to make international calls to the point-of-contact in the United States.

SUPPLEMENTARY INFORMATION: The withdrawal extension is needed in order to maintain the protection of the Langmuir Principal Research Site, as originally authorized under PLO No. 7587 (68 FR 61231 (October 27, 2003)), and incorporated herein by reference, which withdrew 852-acres of National Forest System lands from location and entry under the United States mining laws to protect the Langmuir Principal Research Site on the Magdalena Ranger District of the Cibola National Forest from any adverse impacts of such activities. This PLO also serves to correct errors in the original legal land description described in PLO No. 7587 (68 FR 61231 (October 27, 2003)). Correction of the legal land description does not change the actual footprint of the withdrawal; correcting the description would bring it into conformance with the 2017 Bureau of Land Management Specifications for Descriptions of Land. The description for PLO No. 7587 also identifies the area of lands withdrawn as 852 acres. Government Land Office (GLO) surveys have identified the acreages for these lands and are the source for official acreage determinations. The GLO records indicate the exact acreage described contains 851.72 acres; therefore, the acres for this PLO have been updated to reflect accurate acreage for this withdrawal.

Order

By virtue of the authority vested in the Secretary of the Interior by Section 204(f) of the Federal Land Policy and Management Act of 1976, 43 U.S.C. 1714(f), it is ordered as follows:

1. Subject to valid existing rights, PLO No. 7587 (68 FR 61231 (2003)), which withdrew 852 acres of National Forest System lands from location and entry under the United States mining laws to protect the Langmuir Principal Research Site, is hereby extended for an additional 20-year period and the legal description and acres are corrected to read as follows:

New Mexico Principal Meridian, New Mexico

T. 4 S., R. 3 W.,

Sec. 5 Lot 2 and W½SW¼;

Sec. 6, Lots 5 and 6, SE¼NW¼, E½SW¼, and SE¼;

Sec. 7, NE¼, E½NW¼ and N½SE¼;

Sec. 8, W½NW¼ and NW¼SW¼.

The area described contains 851.72 acres.

2. This withdrawal will expire 20 years from the effective date of this order unless, as a result of a review conducted prior to the expiration date pursuant to Section 204(f) of the Federal Land Policy and Management Act, 43 U.S.C. 1714(f), the Secretary determines that the withdrawal shall be further extended.

(Authority: 43 U.S.C. 1714(f))

Shannon A. Estenoz,
Assistant Secretary for Fish and Wildlife and Parks.

[FR Doc. 2023-23629 Filed 10-24-23; 8:45 am]

BILLING CODE 4331-23-P